DEPARTMENT OF COMMERCE

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Social Capital Survey of Northeast Groundfish (SCSN) Fishery Sector Participants.

OMB Control Number: None.

Form Number(s): NA.

Type of Request: Regular submission (request for a new information collection).

Number of Respondents: 151.

Average Hours per Response: 20 minutes.

Burden Hours: 50.

Needs and Uses: This request is for a new information collection.

Quota allocations to groups of self-selecting permit holders (known as sector allocations) are increasingly being considered as a way to provide fishermen with greater control and flexibility in their fishing businesses while achieving efficiency gains. This new approach, which devolves substantial management responsibilities to groups of fishermen, represents a potential transformation in the relationship among permit holders as well as the relationship between permit holders and fisheries governance structures.

We expect that the success of sectors is likely to be shaped by the strength of the relationships between permit holders including their degree of trust and collaboration. We also expect that successful sectors will build norms and networks that enable collective action over time. The value of these relationships is commonly referred to in social and economic literature.

A baseline of existing social capital in the groundfish fishery in the Northeast Region was conducted in 2010 by the Gulf of Maine Research Institute. This survey, to be conducted twice over the next six years, will follow up on this earlier initiative and will enable researchers to measure the change in the types and strength of relationships between groundfish permit holders in the Northeast. This work will inform our understanding of how best to design collaborative management structures in support of sustainable fisheries in the region and nationally.

Affected Public: Business or other for-profit organizations.

Frequency: Twice in the next six years.

Respondent's Obligation: Voluntary.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: January 14, 2013.
Gwellnar Banks,
Management Analyst, Office of the Chief Information Officer.

[FR Doc. 2013-00964 Filed 1-17-13; 8:45 am]

BILLING CODE 3510-22-P